DEPARTMENT OF ENERGY

Federal Energy Regulatory Commission

[Project No. 1494-438]

Notice of Public Information Sessions; Grand River Dam Authority

On November 14 and 15, 2017, Federal Energy Regulatory Commission (Commission) staff will host a series of public information sessions regarding the procedure for relicensing Grand River Dam Authority's (GRDA) Pensacola Hydroelectric Project No. 1494 (Pensacola Project). The project is located on the Grand (Neosho) River in Craig, Delaware, Mayes, and Ottawa Counties, Oklahoma.

a. Date, Time, and Location of Meetings:

Tuesday, November 14, 2017, 6 p.m. to 8 p.m., GRDA Ecosystems and Education Center, 420 OK-28, Langley, OK 74350, (918) 256-5545.

Wednesday, November 15, 2017, 10 a.m. to 12 p.m., GRDA Ecosystems and Education Center, 420 OK-28, Langley, OK 74350, (918) 256-5545.

Wednesday, November 15, 2017, 6 p.m. to 8 p.m., Grove City Hall, 104 West Third Street, Grove, OK 74344, (918) 786-6107.

b. FERC Contact: Rachel McNamara, 202-502-8340 or rachel.mcnamara@ferc.gov.

c. Purpose of Meeting: In January 2018, the Commission will commence relicensing of the project under the Integrated Licensing Process (ILP). To assist local, state, and federal agencies, Indian tribes, and other interested entities and individuals in participating during the relicensing process, Commission staff invite the public to attend information sessions about the ILP and how stakeholders can best participate in the process.

d. Proposed Agenda: Each meeting will include an overview of the ILP and discussion of the specific process plan (schedule) for the Pensacola Project, opportunities for public comment, and how the Commission assesses information needs during the study planning process. There will also be time for stakeholders to ask any additional questions related to the relicensing process.

Dated: October 23, 2017.
Kimberly D. Bose,
Secretary.

[FR Doc. 2017-23415 Filed 10-26-17; 8:45 am]

BILLING CODE 6717-01-P